DEPARTMENT OF COMMERCE

Foreign-Trade Zones Board

[Docket 43-2003]

Proposed Foreign-Trade Zone—Alexandria, Louisiana; Application and Public Hearing

An application has been submitted to the Foreign-Trade Zones (FTZ) Board (the Board) by the Board of Commissioners of the England Economic and Industrial Development District, to establish a general-purpose foreign-trade zone at sites in Alexandria, Louisiana, adjacent to the Morgan City, Louisiana, Customs port of entry. The FTZ application was submitted pursuant to the provisions of the FTZ Act, as amended (19 U.S.C. 81a-81u), and the regulations of the Board (15 CFR part 400). It was formally filed on September 8, 2003. The applicant is authorized to make the proposal under Sections 61, 64 and 65 of Title 51 of the Louisiana Revised Statutes of 1950, as amended.

The proposed zone would consist of three sites covering 1,828 acres in the Alexandria area: Site 1 (1594 acres)—within the 2,351-acre England Airpark complex (owned by the applicant), 1611 Arnold Drive, Alexandria; Site 2 (124 acres)—at the Port of Alexandria (owned by the Alexandria Regional Port Authority), 600 Port Road, Alexandria; and, Site 3 (110 acres)—within the Central Louisiana Eco Business Park (owned by the Central Louisiana Chamber of Commerce), 7636 Highway 1, South, Alexandria. The England Airpark was formerly the England Air Force Base and is currently being developed for commercial use. The Alexandria International Airport and it's fueling facilities are included within the Airpark.

The application indicates a need for zone services in the Alexandria, Louisiana, area. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on October 16, 2003, at 11 a.m., in the Board Room of the England Economic & Industrial Development District, 1611 Arnold Drive, Alexandria, Louisiana 71303.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue NW., Washington, DC 20230.

The closing period for their receipt is November 17, 2003. Rebuttal comments in response to material submitted during the foregoing period may be submitted during the subsequent 15-day period (to December 1, 2003).

A copy of the application and accompanying exhibits will be available for public inspection at the Office of the Foreign-Trade Zones Board's Executive Secretary at the first address listed above, and at the Offices of the England Economic & Industrial Development District, 1611 Arnold Drive, Alexandria, Louisiana 71303.

Dated: September 8, 2003.
Dennis Puccinelli,
Executive Secretary.

[FR Doc. 03-23621 Filed 9-15-03; 8:45 am]

BILLING CODE 3510-DS-P